DEPARTMENT OF LABOR

Employment and Training Administration

[TA-W-65,884]

Progressive Stamping Company, Royal Oak, MI; Notice of Termination of Investigation

In accordance with Section 221 of the Trade Act of 1974, as amended, an investigation was initiated on May 5, 2009 in response to a petition filed by a company official on behalf of workers of Progressive Stamping Company, Royal Oak, Michigan.

The petitioner has requested that the petition be withdrawn. Consequently, the investigation has been terminated.

Signed in Washington, DC, this 15th day of May 2009.
Richard Church,
Certifying Officer, Division of Trade Adjustment Assistance.

[FR Doc. E9-13919 Filed 6-12-09; 8:45 am]

BILLING CODE 4510-FN-P